DEPARTMENT OF TRANSPORTATION

National Highway Traffic Safety Administration

Petition for Modification of a Previously Approved Antitheft Device; Saab

AGENCY: National Highway Traffic Safety Administration (NHTSA), Department of Transportation (DOT).

ACTION: Grant of petition for modification of a previously approved antitheft device.

SUMMARY: On May 8, 2002, Saab Cars, USA, Inc. (Saab) filed a petition with the National Highway Traffic Safety Administration (NHTSA) asking for a third modification to an agency-approved exemption from the vehicle theft prevention standard for its 9-3 vehicle line which replaced its 900 vehicle line in MY 1999. NHTSA is granting Saab's petition for modification of its exemption from the parts-marking requirements of the vehicle theft prevention standard for its model year (MY) 2003 9-3 vehicle line because it has determined, based on substantial evidence, that the antitheft device described in Saab's petition to be placed on the vehicle line as standard equipment is likely to be as effective in reducing and deterring motor vehicle theft as compliance with the parts-marking requirements.

DATES: The exemption granted by this notice is effective at the beginning of the 2003 model year.

FOR FURTHER INFORMATION CONTACT: Ms. Rosalind Proctor, Office of Planning and Consumer Standards, NHTSA, 400 Seventh Street, SW., Washington, DC 20590. Ms. Proctor's telephone number is (202) 366-0846. Her fax number is (202) 493-2290.

SUPPLEMENTARY INFORMATION: On July 26, 1993, NHTSA published in the Federal Register a notice granting a petition from Saab for an exemption from the parts marking requirements of the vehicle theft prevention standard for the Saab 900 car line beginning with MY 1994 (See 58 FR 39853). By letters dated September 8 and 12, 1994, Saab petitioned for the first modification to its device. The agency determined that the proposed changes made on Saab 900's antitheft device for MY 1995 were de minimis changes and did not require it to submit a petition to modify its exemption pursuant to 49 CFR Part 543.9(c)(2).

On June 20, 1997, Saab submitted a second petition for modification of its previously approved antitheft system for MY 1999. On October 24, 1997, NHTSA published in the Federal Register a notice granting in full Saab's second petition for modification for the MY 1999 9-3 vehicle line (See 62 FR 55453).

Saab's submission of May 8, 2002 is a complete petition, as required by 49 CFR part 543.9(d), in that it meets the general requirements contained in 49 CFR part 543.5 and the specific content requirements of 49 CFR part 543.6. Saab's petition provides a detailed description of the identity, design and location of the components of the antitheft system in the vehicle beginning with the 2003 model year. On July 3, 2002, the agency contacted Saab by telephone and obtained additional information which clarified the nature of the changes to its antitheft system for its MY 2003 9-3 vehicle line.

In its MY 2003 petition for modification, Saab stated that for MY 2003 its immobilizer system has been improved. Specifically, the system incorporates several electronic control units (ECU's) in the immobilizer chain for component theft protection. This improvement will prevent stolen components from working if they are mounted in other vehicles. Another improvement is the elimination of the conventional ignition key. A transponder unit with remote arm/disarm features has replaced the traditional mechanical key, unlike the previous antitheft system in which the remote transmitter would not arm or disarm the starter immobilization feature of the system. This is a change from the previously approved system, in which the driver/operator will be able to arm the system, activate the central-locking feature and monitor the protected areas of the vehicle from unauthorized tampering either by using the remote transmitter or locking the driver's or passenger's door with the correct ignition key.

Saab also stated that for MY 2003, there is only one exterior accessible mechanical door lock on the 2003 Saab 9-3. The exterior locking mechanism is capped with a plastic cover and is only meant to be used in emergency situations in which the vehicle or remote battery is dead. In these situations, the plastic cap can be removed and the vehicle can be locked/unlocked with a mechanical key found within the transponder unit. However, using the emergency key will not arm/disarm the alarm.

In order to ensure reliability and durability of the device, Saab stated that its system is designed to work maintenance free throughout the life of the vehicle. Necessary precaution has been taken with regard to electromagnetic compatibility such that radiation from an external source will not render the system inoperative. Saab has used similar systems in the United States since 1997.

The modified system is armed whenever the vehicle is locked using the transponder/ignition key unit. It is disarmed when unlocking using the same unit. In case of an emergency in which the vehicle must be unlocked using the emergency mechanical key, the alarm will be activated and will only deactivate when the transponder/ignition key unit is placed in the ignition slot and turned to the on position. At this point, the system recognizes the security code within the transponder unit and deactivates the alarm.

Saab states that in the Highway Loss Data Institute (HLDI) data published in September 2001, the 4-door 1998-2000 Saab 900/9-3 had a theft index of 65 (100 being the average result).

Saab believes that the antitheft system for model years 2003 and later will provide essentially the same functions and features as found on its MY 1999-2002 systems and therefore, its modified system will provide at least the same level of theft prevention as parts-marking. Saab believes that the antitheft system proposed for installation on its MY 2003 9-3 line is likely to be as effective in reducing thefts as compliance with the parts-marking requirements of part 541.

The agency has evaluated Saab's MY 2003 petition for modification of the exemption for the 9-3 vehicle line from the parts-marking requirements of 49 CFR part 541, and has decided to grant it. It has determined that the system is likely to be as effective as parts-marking in preventing and deterring theft of these vehicles, and therefore qualifies for an exemption under 49 CFR part 543. The agency believes that the modified device will continue to provide five types of performance listed in Section 543.6(b)(3): Promoting activation; preventing defeat or circumventing of the device by unauthorized persons; preventing operation of the vehicle by unauthorized entrants; attracting attention to the efforts of an unauthorized person; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: October 8, 2002.
Stephen R. Kratzke,
Associate Administrator for Rulemaking.

[FR Doc. 02-26288 Filed 10-15-02; 8:45 am]

BILLING CODE 4910-59-P